Proclamation 8173 of September 4, 2007

National Days of Prayer and Remembrance, 2007

By the President of the United States of America

A Proclamation

During this year's National Days of Prayer and Remembrance, we honor the thousands of victims who died in the brutal and ruthless attacks in New York City, Pennsylvania, and at the Pentagon on September 11, 2001. Our Nation remembers with gratitude the firefighters, police officers, first responders, and ordinary citizens who acted with courage and compassion to save the lives of others, and we pray for the families whose loved ones were taken from them.

Never forgetting that terrible day, we remain determined to bring our enemies to justice, defy the terrorists' ideology of hate, and work to make our world safer. We honor the members of our Armed Forces who died while taking the fight to our adversaries, and we are grateful for those who continue to protect our Nation and our way of life. Their courage, sacrifice, and dedication help preserve our freedom. We pray for their safety, for all those who love them, and for the peace we all seek.

We remain a hopeful America, inspired by the kindness and compassion of our citizens and our commitment to freedom and opportunity. During these days of prayer and remembrance, we reflect on all we have lost and take comfort in each other and in the grace and mercy of our Creator. May God guide us, give us strength and wisdom, and may He continue to bless our great country.

NOW, THEREFORE, I, GEORGE W. BUSH, President of the United States of America, by virtue of the authority vested in me by the Constitution and laws of the United States, do hereby proclaim Friday, September 7, through Sunday, September 9, 2007, as National Days of Prayer and Remembrance. I ask that the people of the United States and their places of worship mark these National Days of Prayer and Remembrance with memorial services, the ringing of bells, and evening candlelight remembrance vigils. I also invite the people of the world to share in these Days of Prayer and Remembrance.

IN WITNESS WHEREOF, I have hereunto set my hand this fourth day of September, in the year of our Lord two thousand seven, and of the Independence of the United States of America the two hundred and thirty-second.

[FR Doc. 07-4422

Filed 9-6-07; 10:09 am]

Billing code 3195-01-P